DEPARTMENT OF ENERGY

Federal Energy Regulatory Commission

[Docket No. RP03-221-000]

High Island Offshore System, L.L.C.; Notice of Informal Settlement Conference

June 25, 2003.

Take notice that an informal settlement conference will be convened in this proceeding commencing at 10 a.m. on July 1, 2003, at the offices of the Federal Energy Regulatory Commission, 888 First Street, NE., Washington, DC 20426, for the purpose of exploring the possible settlement of the above-referenced dockets.

Any party as defined by 18 CFR 385.102(c), or any participant as defined by 18 CFR 385.102(b), is invited to attend. Persons wishing to become a party must move to intervene and receive intervenor status pursuant to the Commission's regulations (18 CFR 385.214).

For additional information, please contact Donald Heydt at (202) 502-8740, donald.heydt@ferc.gov or Irene Szopo at (202) 502-8323, irene.szopo@ferc.gov.

Linda Mitry,
Acting Secretary.

[FR Doc. 03-16611 Filed 6-30-03; 8:45 am]

BILLING CODE 6717-01-P